DEPARTMENT OF THE INTERIOR

Fish and Wildlife Service

Draft Comprehensive Conservation Plan and Environmental Impact Statement for Crab Orchard National Wildlife Refuge (NWR), Williamson, Jackson, and Union Counties, IL

AGENCY: Fish and Wildlife Service, Interior.

ACTION: Notice of availability.

SUMMARY: The Fish and Wildlife Service announces that the Draft Comprehensive Conservation Plan (CCP) and Environmental Impact Statement (EIS) is available for Crab Orchard NWR, Illinois.

The CCP/EIS was prepared pursuant to the National Wildlife Refuge System Administration Act of 1996, as amended by the National Wildlife Refuge System Improvement Act of 1997, and the National Environmental Policy Act of 1969. Goals and Objectives in the CCP describe how the agency intends to manage the refuge over the next 15 years.

DATES: Comments on the Draft CCP/EIS must be received on or before January 17, 2006.

ADDRESSES: Copies of the Draft CCP/EIS are available on compact disk or hard copy, you may obtain a copy by writing to: Fish and Wildlife Service, Division of Conservation Planning, Bishop Henry Whipple Federal Building, 1 Federal Drive, Fort Snelling, Minnesota 55111 or you may access and download a copy via the planning Web site at http://www.fws.gov/midwest/planning/craborchard/index.html.

All comments should be addressed to Crab Orchard National Wildlife Refuge, Attention: CCP Comment, 8588 Route 148, Marion, IL 62959, or direct e-mail to r3planning@fws.gov. Comments may also be submitted through the Service's regional Web site at http://www.fws.gov/midwest/planning.

FOR FURTHER INFORMATION CONTACT: Dan Frisk at 618/997-3344.

SUPPLEMENTARY INFORMATION: Located in southern Illinois and consisting of 43,888 acres, Crab Orchard NWR was established in 1947. In late 2000 we asked citizens for their ideas on what the comprehensive conservation plan should include and the issues that should be addressed. We gave citizens the opportunity to comment at open houses and through written comments. In three meetings early in 2001, we asked a diverse group of stakeholders to identify and prioritize issues facing the Refuge.

Five alternative approaches to management, including a Preferred Alternative and a No Action (Current Management) Alternative, were considered for Crab Orchard National Wildlife Refuge. The five alternatives are described and evaluated in the Draft EIS. All alternatives would achieve the Refuge's purposes of wildlife conservation, agriculture, recreation, and industry. Under all alternatives, group camps and most non-wildlife dependent recreation would remain; technical rock climbing would be prohibited; a modified recreational fee structure would be implemented; a 14-day camping limit would be instituted; management of sport fish populations would continue; use of prescribed fire would increase; and the agricultural acres would not change by more than 5 percent. All alternatives would maintain food required for wintering Canada geese. Alternative A would continue the present course of management. Alternative B would reduce habitat fragmentation and emphasize wildlife-dependent recreation. A land exchange with Southern Illinois University would be a significant part of this alternative. Alternative C would emphasize management of open lands and consolidate and improve recreation facilities. Alternative D would emphasize management of forest lands and consolidate and improve recreation facilities. Alternative E, the preferred alternative, would reduce habitat fragmentation and consolidate and improve recreation facilities. Conflicts among water users would be addressed by increasing areas designated as no-wake zones and better enforcement of current use zoning regulations. The quality of campgrounds and marinas would be increased by consolidating and improving them. The agricultural program would remain largely as is and its economic effect continues. The industrial program would continue to support the munitions manufacturing industry. By encouraging other industries to locate in nearby industrial parks, the economic effect of the industry would remain in the local economy, and the needs of the industry would be met more efficiently. Increased efforts would be made to talk with and listen to the community.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: August 16, 2005.
Robyn Thorson,
Regional Director, Region 3, Fish and Wildlife Service, Ft. Snelling, Minnesota.

[FR Doc. 05-20684 Filed 10-14-05; 8:45 am]

BILLING CODE 4310-55-M